FEDERAL COMMUNICATIONS COMMISSION

[AU Docket No. 12-25; DA 12-1446]

Mobility Fund Phase I Auction; Release of Files with Recalculated Road Miles for Auction 901; Mock Auction Rescheduled for September 21, 2012

AGENCY: Federal Communications Commission.

ACTION: Notice.

SUMMARY: In this document, the Wireless Telecommunications and Wireline Competition Bureaus announce updated data files of census blocks eligible for the Mobility Fund Phase I support to be offered in Auction 901, which is to be held on September 27, 2012, and the change of the mock auction date from September 25, 2012 to September 21, 2012.

DATES: The mock auction is rescheduled for September 21, 2012. Auction 901 is scheduled to be held on September 27, 2012.

FOR FURTHER INFORMATION CONTACT: Wireless Telecommunications Bureau, Auctions and Spectrum Access Division: Lisa Stover at (717) 338-2868.

SUPPLEMENTARY INFORMATION: This is a summary of the Auction 901 Updated Data Files and Mock Auction Date Change Public Notice released on September 7, 2012. The Auction 901 Updated Data Files and Mock Auction Date Change Public Notice and its associated attachment as well as related Commission documents may be purchased from the Commission's duplicating contractor, Best Copy and Printing, Inc. (BCPI), 445 12th Street SW., Room CY-B402, Washington, DC 20554, telephone 202-488-5300, fax 202-488-5563, or you may contact BCPI at its Web site: http://www.BCPIWEB.com. When ordering documents from BCPI, please provide the appropriate FCC document number, for example, DA 12-1446. The Auction 901 Updated Data Files and Mock Auction Date Change Public Notice and related documents also are available on the Internet at the Commission's Web site: http://wireless.fcc.gov/auctions/901/ or by using the search function for AU Docket No. 12-25 on the Commission's Electronic Comment Filing System (ECFS) web page at http://www.fcc.gov/cgb/ecfs/.

1. In the Auction 901 Procedures Public Notice, 77 FR 32092, May 31, 2012, the Bureaus identified census blocks eligible for the Mobility Fund Phase I support to be offered in Auction 901. The Bureaus also released files containing detailed information about these census blocks in a number of data formats, and a file with information about the more than 14,000 biddable geographic areas for Auction 901. These biddable items include: (1) The census tract-level aggregations of eligible census blocks, (2) separate aggregations of Tribal blocks and non-Tribal blocks for tracts that contain some eligible blocks that are in a Tribal land and other eligible blocks that are not in a Tribal land, and (3) individual eligible census blocks in Alaska. The Bureaus now announce the availability of updated versions of these files, which are available via the link for “Attachment A Files” at http://wireless.fcc.gov/auctions/901/. An updated summary of the eligible census blocks is attached to the Auction 901 Updated Data Files and Mock Auction Date Change Public Notice.

2. These files do not change the set of eligible census blocks or biddable items. The only changes made are to the road miles listed for certain of the eligible census blocks and their associated biddable items. Comparing the recalculated road miles released today to the previously-released data, the Bureaus note that: (1) More than 80% of the biddable items have either no change in road miles or a change of less than 1 mile; and (2) Fewer than 200 of the more than 14,000 biddable items have changes of at least 1 road mile and more than 25% of the previous total road miles.

3. The Bureaus recently became aware of some anomalies in the calculated road miles for certain of the eligible census blocks, and as a result the Bureaus have reviewed their procedures for calculating road miles. The Bureaus' review indicates that the previously-posted files overstated the eligible road miles in certain cases. Newly-calculated files are available on the Auction 901 Web site (http://wireless.fcc.gov/auctions/901/) via the link for “Attachment A Files.”

4. Based on the Bureaus' review, they have determined that the overstatement resulted from an error in processing the relevant census data files relating to road miles. By way of background, as stated in the Auction 901 Comment Public Notice, 77 FR 7152, February 10, 2012, in calculating the number of road miles associated with each eligible census block, the Bureaus used the sum of linear road miles within the block plus half of the sum of linear road miles that form a border with an adjacent block. The Bureaus included half of the sum of the border roads so these linear miles are not double counted and are appropriately attributed to each eligible block. In order to make this calculation, they considered data in census TIGER files that defines census block borders, other geographic borders, and linear features such as roads. Due to an error in joining these data files, the Bureaus' previous files overstated the calculation of road miles within certain census blocks.

5. The Bureaus' review also indicated that, based on the different ways in which various software treats fractions, the Bureaus could improve the consistency of their data by standardizing their rounding procedures. So the Bureaus now round all road mile numbers to hundredths of miles (two decimal places). As a result, the road mile figures in some cases may be slightly different than the previously-released data due to the new rounding procedures.

6. The Bureaus also reschedule the upcoming mock auction for Auction 901. The mock auction, initially scheduled for September 25, 2012, will instead take place on September 21, 2012. The mock auction will enable qualified bidders to become familiar with the FCC Auction System and to practice submitting bids. Auction 901 will proceed as scheduled on

Thursday, September 27, 2012. Consistent with its usual practice, the Commission intends to announce qualified bidders and distribute registration materials by overnight mail approximately ten days before the auction. All other previously-announced auction procedures and requirements remain the same.

Federal Communications Commission.
Gary D. Michaels,
Deputy Chief, Auctions and Spectrum Access Division, WTB.

[FR Doc. 2012-22907 Filed 9-14-12; 8:45 am]

BILLING CODE 6712-01-P